DEPARTMENT OF HEALTH AND HUMAN SERVICES

National Institutes of Health

Center for Scientific Review; Amended Notice of Meeting

Notice is hereby given of a change in the meeting of the Center for Scientific Review Special Emphasis Panel, Member Conflict: Disease, Cognitive Aging, and Related Dementias April 2, 2024, 1:00 p.m. to April 2, 2024, 7:00 p.m., National Institutes of Health, Rockledge II, 6701 Rockledge Drive, Bethesda, MD, 20892 which was published in the Federal Register on March 11, 2024, 89 FR 17494, Doc 2024-05079.

This meeting is being amended to change the panel name to Member Conflict: Alzheimer's Disease, Cognitive Aging, and Related Dementias. The meeting is closed to the public in accordance with provisions set forth in sections 552b(c)(4) and 552b(c)(6).

Dated: March 12, 2024.
Melanie J. Pantoja,
Program Analyst, Office of Federal Advisory Committee Policy.

[FR Doc. 2024-05599 Filed 3-14-24; 8:45 am]

BILLING CODE 4140-01-P